DEPARTMENT OF HEALTH AND HUMAN SERVICES

Call for Collaborating Partners for National Women's Health Week

AGENCY: Department of Health and Human Services, Office of the Secretary, Office of Public Health and Science, Office on Women's Health.

ACTION: Notice.

SUMMARY: The U.S. Department of Health and Human Services (HHS), Office on Women's Health (OWH) invites public and private sector women's health-related organizations to participate in National Women's Health Week as collaborating partners to help create awareness of women's health issues and educate women about improving their health and preventing disease.

DATES: Representatives of women's health organizations should submit expressions of interest by February 28, 2010.

ADDRESSES: Expressions of interest, comments, and questions may be submitted by electronic mail to Henrietta.Terry@hhs.gov or by regular mail to Henrietta Terry, M.S., Public Health Advisor, Office on Women's Health, Department of Health and Human Services, 200 Independence Avenue, SW., Room 733E, Washington, DC 20201; or via fax to (202-690-7172).

FOR FURTHER INFORMATION CONTACT: Henrietta Terry, M.S., Public Health Advisor, Office on Women's Health, Department of Health and Human Services, 200 Independence Avenue, SW., Room 733E, Washington, DC 20201, (202) 205-1952 (telephone), or (202) 690-7172 (fax).

SUPPLEMENTARY INFORMATION: The OWH was established in 1991 to improve the health of American women by advancing and coordinating a comprehensive women's health agenda throughout HHS. This program has two goals: Development and implementation of model programs on women's health; and leading education, collaboration, and coordination on women's health. The program fulfills its mission through competitive contracts and grants to an array of community, academic, and other organizations at the national and community levels. National educational campaigns provide information about the important steps women can take to improve and maintain their health, such as National Women's Health Week.

National Women's Health Week is a week long health observance that kicks off on Mother's Day and seeks to educate women about improving their physical and mental health and preventing disease. With the 2010 theme “It's Your Time,” OWH will focus on encouraging women to make their health a top priority and take simple steps for a longer, healthier and happier life. For more information about National Women's Health Week, please visit http://www.womenshealth.gov/whw.

Dated: January 7, 2010.
Frances Ashe-Goins,
Acting Director, Office on Women's Health.

[FR Doc. 2010-757 Filed 1-14-10; 8:45 am]

BILLING CODE 4150-33-P